DEPARTMENT OF DEFENSE

Office of the Secretary

[Docket ID: DOD-2010-OS-0065]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on June 21, 2010, unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on May 10, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: May 17, 2010.
Mitchell S. Bryman,
Alternate OSD Federal Register Liaison Officer, Department of Defense.

WUSU 04

SYSTEM NAME:

Uniformed Services University of the Health Sciences (USUHS) Applicant Record System (February 22, 1993; 58 FR 10920).

CHANGES:

SYSTEM NAME:

Delete entry and replace with “Applicant Record System.”

SYSTEM LOCATION:

Delete entry and replace with “Uniformed Services University of the Health Sciences, Admissions Office, 4301 Jones Bridge Road, Bethesda, MD 20814-4799.”

CATEGORIES OF INDIVIDUALS COVERED BY THE SYSTEM:

Delete entry and replace with “Individual's applying for admission to the University.”

CATEGORIES OF RECORDS IN THE SYSTEM:

Delete entry and replace with “Identity information that includes Social Security Number (SSN), name, sex, race/ethnicity, address, birth date, and citizenship; academic and background data consisting of: (1) Official transcripts of all undergraduate and graduate education, (2) Medical College Admission Test scores and percentiles, (3) information regarding work experience, socio-economic background, extracurricular involvement in college, honors and awards achieved, and professional and/or societal contributions, letters of reference, biographies, personal statements (autobiographical in nature), service preference statement, and health data.”

AUTHORITY FOR MAINTENANCE OF THE SYSTEM:

Delete entry and replace with “10 U.S.C. 2114 (Students; Selection; Status; Obligation); DoDI 6010.20 Admission Procedures for the Uniformed Services University of the Health Sciences; and E.O. 9397 (SSN), as amended.”

PURPOSE(S):

Delete entry and replace with “To allow the Uniformed Services University of the Health Sciences to review admission applications and select students. Also used as a management tool for statistical analysis, tracking, reporting, evaluating program effectiveness and conducting research.”

* * * * *

POLICIES AND PRACTICES FOR STORING, RETRIEVING, ACCESSING, RETAINING, AND DISPOSING OF RECORDS IN THE SYSTEM:

STORAGE:

Delete entry and replace with “Paper file folders and electronic storage media.”

RETRIEVABILITY:

Delete entry and replace with “Individual name and Social Security Number (SSN).”

SAFEGUARDS:

Delete entry and replace with “Paper records are maintained in a controlled facility. Entry is limited to authorized personnel. Access to electronic records require two-factor authentication including Common Access Cards and passwords. Passwords are changed periodically.”

RETENTION AND DISPOSAL:

Delete entry and replace with “Records of accepted applicants will be converted to student records. For non-matriculates, records are cut off at the end of the school year (May); and destroyed after three (3) years.”

SYSTEM MANAGER(S) AND ADDRESS:

Delete entry and replace with “Associate Dean for Recruitment and Admissions, Uniformed Services University of the Health Sciences, 4301 Jones Bridge Road, Bethesda, MD 20814-4799.”

NOTIFICATION PROCEDURE:

Delete entry and replace with “Individuals seeking to determine whether information about themselves is contained in this system should address written inquiries to the Associate Dean for Recruitment and Admissions, Uniformed Services University of the Health Sciences, 4301 Jones Bridge Road, Bethesda, MD 20814-4799.

The request should contain the full name, address and the signature of the individual.”

RECORD ACCESS PROCEDURES:

Delete entry and replace with “Individuals seeking access to information about themselves contained in this system should address written inquiries to TRICARE Management Activity ATTN: Freedom of Information Service Center, 16401 Centretech Parkway, Aurora, CO 80011-9066.

The request should contain the full name, address and the signature of individual as well as the name and number of the system of records notice.”

CONTESTING RECORD PROCEDURES:

Delete entry and replace with “The Office of the Secretary of Defense rules for accessing records, for contesting contents and appealing initial agency determinations are published in Office of the Secretary of Defense Administrative Instruction 81; 32 CFR part 311; or may be obtained from the system manager.”

RECORD SOURCE CATEGORIES:

Delete entry and replace with “The applicants and by admission personnel.”

* * * * *

WUSU 04

SYSTEM NAME:

Applicant Record System.

SYSTEM LOCATION:

Uniformed Services University of the Health Sciences, Admissions Office, 4301 Jones Bridge Road, Bethesda, MD 20814-4799.

CATEGORIES OF INDIVIDUALS COVERED BY THE SYSTEM:

Individual's applying for admission to the University.

CATEGORIES OF RECORDS IN THE SYSTEM:

Identity information that includes Social Security Number (SSN), name, sex, race/ethnicity, address, birth date, and citizenship; academic and background data consisting of: (1) Official transcripts of all undergraduate and graduate education, (2) Medical College Admission Test scores and percentiles, (3) information regarding work experience, socio-economic background, extracurricular involvement in college, honors and awards achieved, and professional and/or societal contributions, letters of reference, biographies, personal statements (autobiographical in nature), service preference statement, and health data.

AUTHORITY FOR MAINTENANCE OF THE SYSTEM:

10 U.S.C. 2114 (Students; Selection; Status; Obligation); DoDI 6010.20 Admission Procedures for the Uniformed Services University of the Health Sciences; and E.O. 9397 (SSN), as amended.

PURPOSE(S):

To allow the Uniformed Services University of the Health Sciences to review admission applications and select students. Also used as a management tool for statistical analysis, tracking, reporting, evaluating program effectiveness and conducting research.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD ‘Blanket Routine Uses’ set forth at the beginning of the Office of the Secretary of Defense compilation of systems of records notices apply to this system.

POLICIES AND PRACTICES FOR STORING, RETRIEVING, ACCESSING, RETAINING, AND DISPOSING OF RECORDS IN THE SYSTEM:

STORAGE:

Paper file folders and electronic storage media.

RETRIEVABILITY:

Individual name and Social Security Number (SSN).

SAFEGUARDS:

Paper records are maintained in a controlled facility. Entry is limited to authorized personnel. Access to electronic records require two-factor authentication including Common Access Cards and passwords. Passwords are changed periodically.

RETENTION AND DISPOSAL:

Records of accepted applicants will be converted to student records. For non-matriculates, records are cut off at the end of the school year (May); and destroyed after three (3) years.

SYSTEM MANAGER(S) AND ADDRESS:

Associate Dean for Recruitment and Admissions, Uniformed Services University of the Health Sciences, 4301 Jones Bridge Road, Bethesda, MD 20814-4799.

NOTIFICATION PROCEDURE:

Individuals seeking to determine whether information about themselves is contained in this system should address written inquiries to the Associate Dean for Recruitment and Admissions, Uniformed Services University of the Health Sciences, 4301 Jones Bridge Road, Bethesda, MD 20814-4799.

The request should contain the full name, address and the signature of the individual.

RECORD ACCESS PROCEDURES:

Individuals seeking access to information about themselves contained in this system should address written inquiries to TRICARE Management Activity ATTN: Freedom of Information Service Center, 16401 Centretech Parkway, Aurora, CO 80011-9066.

The request should contain the full name, address and the signature of individual as well as the name and number of the system of records notice.

CONTESTING RECORD PROCEDURES:

The Office of the Secretary of Defense rules for accessing records, for contesting contents and appealing initial agency determinations are published in Office of the Secretary of Defense Administrative Instruction 81; 32 CFR part 311; or may be obtained from the system manager.

RECORD SOURCE CATEGORIES:

The applicants and by admission personnel.

EXEMPTIONS CLAIMED FOR THE SYSTEM:

None.

[FR Doc. 2010-12096 Filed 5-19-10; 8:45 am]

BILLING CODE 5001-06-P